ENVIRONMENTAL PROTECTION AGENCY

[EPA-R07-SFUND-2012-0947; FRL-9768-3]

Proposed Administrative Cost Recovery Settlement Under Section 122(h) of the Comprehensive Environmental Response Compensation and Liability Act, as Amended, Former W&J Lanyon Zinc Works Superfund Site, Pittsburg, Crawford County, KS

AGENCY: Environmental Protection Agency (EPA).

ACTION: Notice; request for public comment.

SUMMARY: In accordance with Section 122(i) of the Comprehensive Environmental Response Compensation and Liability Act, as amended (CERCLA), notice is hereby given of an administrative settlement with MCP Industries, Inc., for compromise of past response costs concerning the Former W&J Lanyon Zinc Works Superfund Site (the “Site”) in Pittsburg, Crawford County, Kansas. The settlement also requires MCP Industries, Inc., to pay certain future response costs incurred to the Hazardous Substance Superfund. The settlement includes a covenant not to sue the MCP Industries, Inc., for the Work, past response costs, and future response costs once paid. For thirty (30) days following the date of publication of this notice, EPA will receive written comments relating to the settlement. EPA will consider all comments and may modify or withdraw its consent to the settlement if comments received disclose facts or considerations which indicate that the settlement is inappropriate, improper, or inadequate. EPA's response to any comments received will be available for public inspection at the EPA Region 7 office located at 11201 Renner Boulevard, Lenexa, Kansas 66219.

DATES: Comments must be submitted on or before February 6, 2013.

ADDRESSES: The proposed settlement is available for public inspection at the EPA Region 7 office, 11201 Renner Boulevard, Lenexa, Kansas 66219, Monday through Friday, between the hours of 8:00 a.m. through 4:00 p.m. A copy of the proposed settlement may be obtained from the Regional Hearing Clerk, 11201 Renner Boulevard, Lenexa, Kansas 66219, (913) 551-7567. Requests should reference the Former W&J Lanyon Zinc Works Superfund Site, EPA Docket No. CERCLA-07-2012-0012. Comments should be addressed to: Denise L. Roberts, Senior Assistant Regional Counsel, 11201 Renner Boulevard, Lenexa, Kansas 66219.

FOR FURTHER INFORMATION CONTACT: Denise L. Roberts, at telephone: (913) 551-7559; fax number: (913) 551-7925/Attn: Denise L. Roberts; Email address: roberts.denise@epa.gov.

Dated: December 12, 2012.
Cecilia Tapia,
Director, Superfund Division, Region 7.

[FR Doc. 2013-00052 Filed 1-4-13; 8:45 am]

BILLING CODE 6560-50-P